DEPARTMENT OF EDUCATION

[Docket No.: ED-2021-SCC-0041]

Agency Information Collection Activities; Comment Request; Safer Schools and Campuses Best Practices Clearinghouse

AGENCY: Office of Elementary and Secondary Education (OESE), Department of Education (ED).

ACTION: Notice.

SUMMARY: In accordance with the Paperwork Reduction Act of 1995, ED is requesting the Office of Management and Budget (OMB) to conduct an emergency review of new information collection.

DATES: The Department requested emergency processing from OMB for this information collection request by March 15, 2021; and therefore, the regular clearance process is hereby being initiated to provide the public with the opportunity to comment under the full comment period. Interested persons are invited to submit comments on or before May 18, 2021.

ADDRESSES: To access and review all the documents related to the information collection listed in this notice, please use http://www.regulations.gov by searching the Docket ID number ED-2021-SCC-0041. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 208D, Washington, DC 20202-8240.

FOR FURTHER INFORMATION CONTACT: For specific questions related to collection activities, please contact Victoria Hammer, 202-260-1438.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Safer Schools and Campuses Best Practices Clearinghouse.

OMB Control Number: 1810-NEW.

Type of Review: A new information collection.

Respondents/Affected Public: State, Local, and Tribal Governments Total Estimated Number of Annual Responses: 300.

Total Estimated Number of Annual Burden Hours: 450.

Abstract: On January 21, 2021 the President issued Executive Order (E.O.) 14000 to assist members of the educational community in each State in safely reopening schools for face-to-face instruction and ensuring schools remain open. E.O. 14000 directs the Department to make widely available and easily accessible a variety of resources from the field and Federal agencies and technical assistance to support their dissemination and use. The hub for these resources will be the Clearinghouse described in E.O. 14000. The Department's Office of Elementary and Secondary Education (OESE) will lead development and implementation of the Clearinghouse in partnership with other ED offices and relevant Federal agencies. At the heart of the Clearinghouse will be the lessons learned and best practices collected from schools, districts, States, and institutions of higher education from across the country.

Additional information: It will address three major topics related to operating safely during the COVID-19 pandemic:

• Safe and Healthy Environments: School and campus approaches to implementing the Centers for Disease Control and Prevention's (CDC) recommended mitigation strategies and preparing for and sustaining in-person operations safely. This includes recommendations across all grade and age levels of students served, with focus both on reopening buildings for the first time as well as keeping them open safely.

• Providing Supports to Students: School and campus strategies to meet student social, emotional, mental health, academic, financial, and other needs, including access to food and other basic needs. This includes a specific focus on the most vulnerable learners and ensuring that resources provided by schools and campuses will be able to connect with and meet the needs of those disconnected from learning.

• Teacher, Faculty, and Staff Well-Being, Professional Development, and Supports: School and campus strategies to address the social, emotional, health, and other needs of teachers, faculty, and staff.

In order to quickly categorize, review, and approve submissions for inclusion in the Clearinghouse, the Department would like to request that voluntary submissions include the following information: (1) Contact information; (2) Topic (e.g., safe and healthy environments; providing supports for students; teacher, faculty, and staff well-being, professional development, and supports); (3) Target audience (e.g., early childhood, PreK-12, postsecondary); (4) A short description (two to three sentences); (5) What makes it a lesson learned or best practice (e.g., it is based on local data regarding number of cases of COVID in the community, State or Federal guidance, research), including a summary of the impact and any evidence of positive outcomes and clarification of the type of setting the practice has been used in (e.g., rural/urban/suburban, public/private/proprietary, 2-year or 4-year higher education institution, Historically Black College or University/Tribally Controlled College or University/Minority Serving Institution; other educational settings such as correctional facilities); and (6) Whether there is a focus on racial equity and/or another equity focus, such as a focus on historically underserved populations including students with disabilities; English learners; students from low-income backgrounds; first-generation college students; students experiencing homelessness; students in or formerly in foster care; Lesbian, Gay, Bisexual, Transgender, Queer, Intersex, Asexual (LGBTQIA) students; undocumented students; student veterans and military-connected students; student parents; and international students.

Dated: March 15, 2021.
Kate Mullan,
PRA Coordinator, Strategic Collections and Clearance Governance and Strategy Division, Office of Chief Data Officer, Office of Planning, Evaluation and Policy Development.

[FR Doc. 2021-05676 Filed 3-18-21; 8:45 am]

BILLING CODE 4000-01-P